DEPARTMENT OF ENERGY

Federal Energy Regulatory Commission

Combined Notice of Filings #1

Take notice that the Commission received the following exempt wholesale generator filings:

Docket Numbers: EG20-28-000.

Applicants: Maverick Wind Project, LLC.

Description: Notice of Self-Certification of Exempt Wholesale Generator Status of Maverick Wind Project, LLC.

Filed Date: 11/15/19.

Accession Number: 20191115-5084.

Comments Due: 5 p.m. ET 12/6/19.

Docket Numbers: EG20-29-000.

Applicants: Maverick Wind Project Holdings LLC.

Description: Notice of Self-Certification of Exempt Wholesale Generator Status of Maverick Wind Project Holdings LLC.

Filed Date: 11/15/19.

Accession Number: 20191115-5085.

Comments Due: 5 p.m. ET 12/6/19.

Docket Numbers: EG20-30-000.

Applicants: Sundance Wind Project, LLC.

Description: Notice of Self-Certification of Exempt Wholesale Generator Status of Sundance Wind Project, LLC.

Filed Date: 11/15/19.

Accession Number: 20191115-5089.

Comments Due: 5 p.m. ET 12/6/19.

Docket Numbers: EG20-31-000.

Applicants: Sundance Wind Project Holdings LLC.

Description: Notice of Self-Certification of Exempt Wholesale Generator Status of Sundance Wind Project Holdings LLC.

Filed Date: 11/15/19.

Accession Number: 20191115-5101.

Comments Due: 5 p.m. ET 12/6/19.

Docket Numbers: EG20-32-000.

Applicants: Traverse Wind Energy LLC.

Description: Notice of Self-Certification of Exempt Wholesale Generator Status of Traverse Wind Energy LLC.

Filed Date: 11/15/19.

Accession Number: 20191115-5102.

Comments Due: 5 p.m. ET 12/6/19.

Docket Numbers: EG20-33-000.

Applicants: Traverse Wind Energy Holdings LLC.

Description: Notice of Self-Certification of Exempt Wholesale Generator Status of Traverse Wind Energy Holdings LLC.

Filed Date: 11/15/19.

Accession Number: 20191115-5103.

Comments Due: 5 p.m. ET 12/6/19.

Take notice that the Commission received the following electric rate filings:

Docket Numbers: ER11-2731-002.

Applicants: DTE Stoney Corners Wind Farm, LLC.

Description: Compliance filing: Supplement Change in Status Filing to be effective 10/12/2019.

Filed Date: 11/14/19.

Accession Number: 20191114-5119.

Comments Due: 5 p.m. ET 12/5/19.

Docket Numbers: ER12-421-002.

Applicants: DTE Garden Wind Farm, LLC.

Description: Supplement to October 11, 2019 DTE Garden Wind Farm, LLC tariff filing.

Filed Date: 11/14/19.

Accession Number: 20191114-5163.

Comments Due: 5 p.m. ET 12/5/19.

Docket Numbers: ER20-359-001.

Applicants: Midcontinent Independent System Operator, Inc.

Description: Tariff Amendment: 2019-11-14_Amendment to Attachment X Pro Forma Facilities Services Agreement to be effective 1/12/2020.

Filed Date: 11/14/19.

Accession Number: 20191114-5146.

Comments Due: 5 p.m. ET 12/5/19.

Docket Numbers: ER20-381-000.

Applicants: Dominion Energy South Carolina, Inc.

Description: Late-Filed Contribution in Aid of Construction Agreements and Refund Analyses of Dominion Energy South Carolina, Inc.

Filed Date: 11/14/19.

Accession Number: 20191114-5174.

Comments Due: 5 p.m. ET 12/5/19.

Docket Numbers: ER20-382-000.

Applicants: Midcontinent Independent System Operator, Inc.

Description: § 205(d) Rate Filing: 2019-11-15_SA 3371 Orion Renewable-SIGE GIA (J856) to be effective 10/31/2019.

Filed Date: 11/15/19.

Accession Number: 20191115-5038.

Comments Due: 5 p.m. ET 12/6/19.

Docket Numbers: ER20-383-000.

Applicants: Maverick Wind Project, LLC.

Description: Baseline eTariff Filing: Application for Market-Based Rate Authorization to be effective 1/15/2020.

Filed Date: 11/15/19.

Accession Number: 20191115-5049.

Comments Due: 5 p.m. ET 12/6/19.

Docket Numbers: ER20-383-001.

Applicants: Maverick Wind Project, LLC.

Description: Tariff Amendment: Supplement to Application for Market-Based Rate Authorization to be effective 1/15/2020.

Filed Date: 11/15/19.

Accession Number: 20191115-5106.

Comments Due: 5 p.m. ET 12/6/19.

Docket Numbers: ER20-384-000.

Applicants: Maverick Wind Project Holdings LLC.

Description: Baseline eTariff Filing: Application for Market-Based Rate Authorization to be effective 1/15/2020.

Filed Date: 11/15/19.

Accession Number: 20191115-5050.

Comments Due: 5 p.m. ET 12/6/19.

Docket Numbers: ER20-384-001.

Applicants: Maverick Wind Project Holdings LLC.

Description: Tariff Amendment: Supplement to Application for Market-Based Rate Authorization to be effective 1/15/2020.

Filed Date: 11/15/19.

Accession Number: 20191115-5107.

Comments Due: 5 p.m. ET 12/6/19.

Docket Numbers: ER20-385-000.

Applicants: Sundance Wind Project, LLC.

Description: Baseline eTariff Filing: Application for Market-Based Rate Authorization to be effective 1/15/2020.

Filed Date: 11/15/19.

Accession Number: 20191115-5051.

Comments Due: 5 p.m. ET 12/6/19.

Docket Numbers: ER20-385-001.

Applicants: Sundance Wind Project, LLC.

Description: Tariff Amendment: Supplement to Application for Market-Based Rate Authorization to be effective 1/15/2020.

Filed Date: 11/15/19.

Accession Number: 20191115-5108.

Comments Due: 5 p.m. ET 12/6/19.

Docket Numbers: ER20-386-000.

Applicants: Sundance Wind Project Holdings LLC.

Description: Baseline eTariff Filing: Application for Market-Based Rate Authorization to be effective 1/15/2020.

Filed Date: 11/15/19.

Accession Number: 20191115-5057.

Comments Due: 5 p.m. ET 12/6/19.

Docket Numbers: ER20-386-001.

Applicants: Sundance Wind Project Holdings LLC.

Description: Tariff Amendment: Supplement to Application for Market-Based Rate Authorization to be effective 1/15/2020.

Filed Date: 11/15/19.

Accession Number: 20191115-5109.

Comments Due: 5 p.m. ET 12/6/19.

Docket Numbers: ER20-387-000.

Applicants: Traverse Wind Energy LLC.

Description: Baseline eTariff Filing: Application for Market-Based Rate Authorization to be effective 1/15/2020.

Filed Date: 11/15/19.

Accession Number: 20191115-5058.

Comments Due: 5 p.m. ET 12/6/19.

Docket Numbers: ER20-387-001.

Applicants: Traverse Wind Energy LLC.

Description: Tariff Amendment: Supplement to Application for Market-Based Rate Authorization to be effective 1/15/2020.

Filed Date: 11/15/19.

Accession Number: 20191115-5110.

Comments Due: 5 p.m. ET 12/6/19.

Docket Numbers: ER20-388-000.

Applicants: Traverse Wind Energy Holdings LLC.

Description: Baseline eTariff Filing: Application for Market-Based Rate Authorization to be effective 1/15/2020.

Filed Date: 11/15/19.

Accession Number: 20191115-5059.

Comments Due: 5 p.m. ET 12/6/19.

Docket Numbers: ER20-388-001.

Applicants: Traverse Wind Energy Holdings LLC.

Description: Tariff Amendment: Supplement to Application for Market-Based Rate Authorization to be effective 1/15/2020.

Filed Date: 11/15/19.

Accession Number: 20191115-5111.

Comments Due: 5 p.m. ET 12/6/19.

Docket Numbers: ER20-389-000.

Applicants: Sierra Pacific Power Company.

Description: Tariff Cancellation: Notice of Termination of Rate Schedule No. 72 to be effective 1/15/2020.

Filed Date: 11/15/19.

Accession Number: 20191115-5081.

Comments Due: 5 p.m. ET 12/6/19.

Docket Numbers: ER20-390-000.

Applicants: Nevada Power Company.

Description: Tariff Cancellation: Notice of Termination of Rate Schedule No. 152 to be effective 1/15/2020.

Filed Date: 11/15/19.

Accession Number: 20191115-5083.

Comments Due: 5 p.m. ET 12/6/19.

Docket Numbers: ER20-391-000.

Applicants: J. Aron & Company LLC.

Description: Compliance filing: New eTariff Baseline Filing to be effective 10/16/2019.

Filed Date: 11/15/19.

Accession Number: 20191115-5122.

Comments Due: 5 p.m. ET 12/6/19.

Docket Numbers: ER20-392-000.

Applicants: DTE Stoney Corners Wind Farm, LLC.

Description: § 205(d) Rate Filing: Notice of Name Change Filing to be effective 10/17/2019.

Filed Date: 11/15/19.

Accession Number: 20191115-5148.

Comments Due: 5 p.m. ET 12/6/19.

Docket Numbers: ER20-393-000.

Applicants: DTE Garden Wind Farm, LLC.

Description: § 205(d) Rate Filing: Notice of Name Change Filing to be effective 10/17/2019.

Filed Date: 11/15/19.

Accession Number: 20191115-5152.

Comments Due: 5 p.m. ET 12/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2019.
Kimberly D. Bose,
Secretary.

[FR Doc. 2019-25270 Filed 11-20-19; 8:45 am]

BILLING CODE 6717-01-P